DEPARTMENT OF JUSTICE

Notice of Lodging of Consent Decree Pursuant to the Comprehensive Environmental Response, Compensation, and Liability Act

In accordance with Departmental policy, 28 CFR 50.7, notice is hereby given that a consent decree in United States v. H.K. Porter Company, Inc., et al., Civil Action No. 96-579 (W.D. Pa.) was lodged on June 26, 2000, with the United States District Court for the Western District of Pennsylvania. The consent decree resolves the claims of the United States against the remaining defendants, Thomas R. Allen, Jr., Morton J. Greene, Anne S. Greene, Carol M. Allen, and Economy Industrial Properties under Section 107(a) of the Comprehensive Environmental Response, Compensation, and Liability Act, as amended (“CERCLA”), 42 U.S.C. 9607(a), for reimbursement of response costs incurred by the U.S. Environmental Protection Agency (“EPA”) in connection with the Bollinger Superfund Site in Ambridge, Pennsylvania. The consent decree also resolves the claims of the United States for penalties under Section 104(e) of CERCLA, 42 U.S.C. 9604(e), against Thomas R. Allen, Jr. and Morton J. Greene, for their failure to respond adequately to EPA information requests. The consent decree obligates the Settling Defendants to pay a total of $450,000 to settle this action; $400,000 is in reimbursement of EPA's outstanding (unreimbursed) past costs incurred through June 26, 2000 (date of lodging), which total approximately $1.8 million, and $50,000 is in payment of penalties for Thomas R. Allen's and Morton J. Greene's failure to respond to EPA's Section 104(e) information requests. The settlement amount is based on Settling Defendants' limited financial resources and ability to pay. The Settling Defendants remain potentially liable for any response costs that may be incurred after the date of lodging.

The Department of Justice will receive, for a period of thirty (30) days from the date of this publication, comments relating to the proposed consent decree. Comments should be addressed to the Assistant Attorney General for the Environment and Natural Resources Division, U.S. Department of Justice, Washington, DC 20530, and should refer to United States v. H.K. Porter Company, Inc., et al., DOJ Ref. #90-11-2-738C.

The proposed consent decree may be examined at the offices of the United States Attorney, Gulf Tower, 7th Avenue & Grant Street, Pittsburgh, Pennsylvania 15219, and the Region III Office of the Environmental Protection Agency, 1650 Arch Street, Philadelphia, PA. A copy of the consent decree may also be obtained by mail from the U.S. Department of Justice Consent Decree Library, P.O. Box 7611, Washington, DC 20044. In requesting a copy, please refer to the referenced case and enclose a check in the amount of $6.75 (25 cents per page reproduction cost), payable to the Consent Decree Library.

Joel M. Gross,
Chief, Environmental Enforcement Section, Environmental & Natural Resources Division.

[FR Doc. 00-17395 Filed 7-10-00; 8:45 am]

BILLING CODE 4410-15-M